DEPARTMENT OF HOMELAND SECURITY

Coast Guard

33 CFR Part 151

[Docket No. USCG-2024-0046]

Recordkeeping and Reporting Requirements To Document Environmental Compliance on Certain Commercial Vessels

AGENCY: Coast Guard, Department of Homeland Security (DHS).

ACTION: Request for information.

SUMMARY: The Coast Guard seeks information about the recordkeeping and reporting procedures required under the Coast Guard ballast water regulations issued in 2012 and 2015 and the monitoring, recordkeeping, and reporting required under the U.S. Environmental Protection Agency (EPA) 2013 Vessel General Permit (VGP). The Coast Guard plans to use this information to evaluate new and updated solutions that inform data-driven policymaking, reduce the reporting and record-keeping burden on industry, and confirm environmental compliance.

DATES: Comments must be received by the Coast Guard on or before July 22, 2024.

ADDRESSES: You may submit comments using the Federal Decision-Making Portal at https://www.regulations.gov. See the “Public Participation and Request for Comments” portion of the SUPPLEMENTAL INFORMATION section for further instructions on submitting comments.

FOR FURTHER INFORMATION CONTACT: For information about this document, email or phone Joseph Adamson, U.S. Coast Guard; email: CG-OES@uscg.mil, telephone: 206-836-3831.

SUPPLEMENTARY INFORMATION:

I. Public Participation and Comments

We encourage you to submit comments or related material responding to this request for information. The Coast Guard views public participation as essential to understanding the recordkeeping and reporting requirements for documenting environmental compliance. We consider all submissions and may adjust agency policy based on your feedback. If you submit a comment, please include the docket number for this notice (USCG-2024-0046), indicate the specific section of this document to which each comment applies, and provide a detailed description of the issues, the reasoning, and suggestion or recommendations for solutions.

Methods for submitting comments. We encourage you to submit comments through the Federal Decision-Making Portal at www.regulations.gov. To do so, go to www.regulations.gov, type USCG-2024-0046 in the search box and click “Search.” Next, look for this document in the Search Results column, and click on it. Then click on the Comment option. If your material cannot be submitted using www.regulations.gov, contact the person in the FOR FURTHER INFORMATION CONTACT section of this document for alternate instructions.

Viewing material in the docket. Public comments will be placed in our online docket at www.regulations.gov and can be viewed by following that website's instructions, provided on its Frequently Asked Questions page. We review all comments received, but we will only post comments that address the topic of this request for information. We may choose not to post off-topic, inappropriate, or duplicate comments that we receive.

The Coast Guard will carefully consider each comment received, but may not issue separate responses. The Coast Guard may also propose regulatory changes or update guidance related to this topic. If the Coast Guard were to undertake any regulatory or guidance changes as a result of comments received, those changes would be announced separately.

Personal information. We accept anonymous comments. Comments we post to www.regulations.gov will include any personal information you have provided. For more about privacy and submissions to the docket in response to this document, see the Department of Homeland Security's (DHS) eRulemaking System of Records notice (85 FR 14226, March 11, 2020).

II. Abbreviations

CFR Code of Federal Regulations

DHS Department of Homeland Security

DMR Discharge Monitoring Report

eNOI Electronic Notice of Intent

EPA Environmental Protection Agency

NBIC National Ballast Information Clearinghouse

VGP Vessel General Permit

III. Background

On March 23, 2012, the Coast Guard published a final rule about vessel ballast water management, titled “Standards for Living Organisms in Ships' Ballast Water Discharge in U.S. Waters” (77 FR 17254), which became effective on June 21, 2012. On November 24, 2015, the Coast Guard published a final rule amending the reporting and recordkeeping requirements to simplify and streamline the reporting process (80 FR 73105). Those amendments became effective on February 22, 2016. These regulations, codified in 33 CFR part 151, require vessel owners or operators to submit reports to the National Ballast Information Clearinghouse (NBIC). These reports must include, among other information, the number of ballast water tanks, the total ballast water capacity, and primary port of ballast water loading and discharge for each voyage. The Coast Guard uses this information to understand ballasting patterns in the waters of the United States and evaluate the effectiveness of regulations and guidance. The Coast Guard also uses this information to ensure that ballast water is managed in accordance with the regulatory requirements outlined in 33 CFR 151.1510.

On April 12, 2013, the Environmental Protection Agency (EPA) published its Notice of final permit issuance, titled Final National Pollutant Discharge Elimination System (NPDES) General Permit for Discharges Incidental to the Normal Operation of a Vessel (78 FR 21938). The notice finalizes Vessel General Permit (VGP) requirements for certain commercial vessels that are 79 feet or longer operating within waters of the United States. The VGP requirements do not apply to fishing vessels (except for ballast water), recreational vessels as defined in section 502(25) of the Clean Water Act (CWA) (33 U.S.C. 1362), or vessels of the Armed Forces as defined in CWA section 312(a)(14) (33 U.S.C. 1322).

The VGP requires vessel owners or operators to monitor vessel discharges, retain records necessary to demonstrate compliance, and submit an annual report to the EPA. This annual report is currently electronically submitted to the EPA by uploading a datasheet or manually completing an online form. In the report, vessel owners or operators must:

1. Identify the regions of the United States where the vessel operated during the year;

2. Provide details about the vessel, vessel discharges, and onboard pollution control devices;

3. Provide details of required sampling and inspection; and

4. Identify any instances of noncompliance with the permit requirements.

The EPA uses this information to assess compliance with permit requirements. The Coast Guard also uses this information to assist EPA with compliance under the VGP as detailed in the February 11, 2011, memorandum of understanding between the Coast Guard and the EPA (available in the docket for this notice, see the Public Participation and Comments section of this preamble.).

Electronic reporting systems have become more user-friendly, powerful, efficient, intelligent, and secure since the 2012 and 2015 ballast water final rules and VGP were issued. The Coast Guard hopes to leverage these advances to improve the environmental compliance reporting processes, reduce the reporting burden, streamline procedures, and encourage direct entry into Federal data systems. These centrally housed systems facilitate consistent data analysis, policy development, and public transparency and access.

IV. Request for Information

The Coast Guard seeks information, comments, and suggestions about the convenience, costs, time spent, content, applicability, and functionality of the current EPA and Coast Guard monitoring, recordkeeping, and reporting procedures. Questions are divided into four categories pertaining to the vessel's VGP annual report, including the Discharge Monitoring Report (DMR) required by the EPA, and the vessel's ballast water management reporting form (see OMB number 1625-0069) required by the Coast Guard:

A. General question;

B. Information collection;

C. Compiling data and preparing reports; and

D. Submission of reports.

The purpose of these questions is to obtain details on the resources needed to collect, document, compile, and report information, and to solicit comments on existing electronic reporting systems to identify opportunities to streamline any future Coast Guard monitoring, recordkeeping, and reporting activities. The questions below illustrate the type of information sought by the Coast Guard and are intended to help guide your responses.

Please respond to as many questions as you like. We ask that you provide as much specificity and rationale as possible to explain your responses and suggestions and, in particular, whether your responses relate to the EPA VGP, Coast Guard ballast water management reporting requirements, or both.

A. General Question

What amount of time and resources are devoted per vessel to monitoring, recordkeeping, compiling data, and preparing reports to comply with the EPA's VGP and the Coast Guard's ballast water management requirements? Please provide information about who collects this information, such as the Master, environmental compliance officer, or vessel operator, and the amount of time these individuals spend on the different elements of this activity.

B. Information Collection by Vessel Owner or Operator for Submission to the Coast Guard, EPA, or Both

(1) Do you recommend any specific improvements for completing the vessel's ballast water management reporting form for submission to the NBIC and why? Please provide details.

(2) Based on your current experience with collecting information for the EPA's VGP via the Electronic Notice of Intent (eNOI) application, do you recommend any specific improvements to a potential future compliance and enforcement data system and why? Please provide details.

C. Compiling Data and Preparing Reports by Vessel Owner or Operator for Submission to the Coast Guard, EPA, or Both

(1) Based on your current user experience with the instructions provided on the vessel's VGP annual report and the vessel's ballast water management reporting form, what improvements to a potential future compliance and enforcement data system do you recommend? Please provide details.

(2) Based on your current user experience with completing the vessel's VGP annual report and the vessel's ballast water management reporting form, what improvements to a potential future compliance and enforcement data system do you recommend? Please provide details.

(3) Are there any other types of software, in addition to using Microsoft Office file formats, that you use for compiling EPA's VGP information? Please provide details.

(4) Does your vessel owner or operator prepare the vessel's VGP annual report, including DMR data, locally or is information compiled using other means and forwarded to a central location or separate office? Please provide details.

(5) Based on your current user experience with compiling and preparing information for submission to either the EPA's VGP eNOI application or to the NBIC, are there any specific improvements to any potential future compliance and enforcement data system you recommend? Please provide details.

D. Submission of Reports by Vessel Owner or Operators to the Coast Guard or EPA

(1) What improvements with submitting the vessel's ballast water management reporting form do you recommend? Please provide details.

(2) Are there are any specific improvements you suggest for submitting information to the NBIC website? Please provide details and examples of what works well and data fields that could be improved for ease of submission.

(3) Based on your user experience with completing and submitting the vessel's VGP annual report, including any DMR data, what recommendations do you have for any potential future compliance and enforcement data system? Please provide details.

(4) Based on your user experience with the EPA's VGP eNOI system and the submission process (including data verification) for the annual report, what recommendations do you have for any potential future compliance and enforcement data system? Please provide details and examples of what works well.

Dated: June 4, 2024.
J.G. Lantz,
Director of Commercial Regulations and Standards.

[FR Doc. 2024-12572 Filed 6-6-24; 8:45 am]

BILLING CODE 9110-04-P